DEPARTMENT OF EDUCATION

Reading First Advisory Committee

AGENCY: Department of Education, Office of Elementary and Secondary Education.

ACTION: Notice of Open Meeting.

SUMMARY: This notice describes an open meeting of the Reading First Advisory Committee. Notice of the meeting is required by section 10(a)(2) of the Federal Advisory Committee Act and is intended to notify the public of their opportunity to attend.

Dates and Times: October 15, 2007, 9 a.m. until 5 p.m., Eastern Standard Time; and October 16, 2007, 9 a.m. until noon, Eastern Standard Time.

ADDRESSES: Hilton Crystal City at 2399 Jefferson Davis Highway, Arlington, Virginia 22202.

FOR FURTHER INFORMATION CONTACT: Deborah Spitz, Reading First Team Leader, Reading First Advisory Committee; 400 Maryland Avenue, SW., Washington, DC 20202; telephone: (202) 260-3793; fax: (202) 260-8969; e-mail: Deborah.Spitz@ed.gov.

SUPPLEMENTARY INFORMATION: The Reading First Advisory Committee is authorized by Sections 1203(c)(2)(a) and 1202(e)(2) of the Elementary and Secondary Education Act (ESEA) of 1965, as amended. The Committee is established within the Department of Education to evaluate Reading First applications submitted by States, to review the progress reports that States submit after the third year of the grant period, to advise on the awarding of Targeted Assistance Grants, and to advise the Secretary on other issues that the Secretary deems appropriate.

At the open meeting on August 20, the Committee considered the performance data collected from all states and discussed how that data should be reviewed. The Committee created a subcommittee to begin looking at the data and determined that the full Committee would discuss analysis of the data at a public meeting on October 15 and 16.

During this meeting, staff from the Department's offices of Policy and Program Studies Service and Institute of Education Sciences will brief the Committee on their current evaluations of the Reading First program. The meeting will be attended by one or more statisticians who will work with the Committee to answer questions about the data. The Committee expects to establish topics that can be researched further using the data that is currently available, as well as a timeline for completing the review of the third-year progress reports. The Committee may also discuss longer-term research topics and ways to improve data collected in the future.

Individuals who will need accommodations for a disability in order to attend the meeting (e.g., interpreting services, assistance listening devices, or materials in alternative format) should notify Deborah Spitz at (202) 260-3793, no later than ten (10) days before the scheduled date of the meeting. We will attempt to meet requests for accommodations after this date but cannot guarantee their availability. The meeting site is accessible to individuals with disabilities.

Request for Written Comments: Written comments should be submitted via e-mail at least five (5) days prior to the scheduled date of the meeting to Deborah Spitz at Deborah.Spitz@ed.gov. These comments will be shared with the members of the Committee.

Records are kept of all Committee proceedings and are available for public inspection at 400 Maryland Ave. SW., Washington, DC 20202, from the hours of 9 a.m. to 5 p.m., Eastern Standard Time Monday through Friday.

Electronic Access to This Document: You may view this document, as well as all other documents of this Department published in the Federal Register, in text or Adobe Portable Document Format (PDF) on the Internet at the following site: http://www.ed.gov/news/fedregister/index.html.

To use PDF you must have Adobe Acrobat Reader, which is available free at this site. If you have questions about using PDF, call the U.S. Government Printing Office (GPO), toll free at 1-888-293-6498; or in the Washington, DC, area at (202) 512-1530.

Note: The official version of this document is the document published in the Federal Register. Free Internet access to the official edition of the Federal Register and the Code of Federal Regulations is available on GPO Access at: http://www.gpoaccess.gov/nara/index.html.

Amanda Farris,
Deputy Assistant Secretary, The Office of Elementary and Secondary Education.

[FR Doc. E7-19167 Filed 9-27-07; 8:45 am]

BILLING CODE 4000-01-P